SOCIAL SECURITY ADMINISTRATION

[Docket No. SSA-2013-0034]

Consent Based Social Security Number Verification (CBSV) Service

AGENCY: Social Security Administration.

ACTION: Notice of Revised Transaction Fee for CBSV Service.

SUMMARY: We provide fee-based Social Security number (SSN) verification services to enrolled private businesses, State and local government agencies who obtain a valid, signed consent form from the SSN holder. We originally published a notice announcing the CBSV service in the Federal Register on August 10, 2007.

Based on the signed consent form, we verify the number holders' SSNs for the requesting party. The Privacy Act of 1974 (5 United States Code (U.S.C.) 552a(b)), section 1106 of the Social Security Act (42 U.S.C. 1306) and our regulation at 20 Code of Federal Regulation 401.100, establish the legal authority for us to provide SSN verifications to third party requesters based on consent.

The CBSV process provides users with a consent-based SSN verification service in high volume. We developed CBSV as a user-friendly, internet-based application with safeguards that protect the public's information. In addition to the benefit of providing high volume, centralized SSN verification services to users in a secure manner, CBSV provides us with cost and workload management benefits.

New Information: To use CBSV, interested parties must pay a one-time non-refundable enrollment fee of $5,000. Currently, users also pay a fee of $1.05 per SSN verification transaction in advance of services. We agreed to periodically calculate our costs for providing CBSV services and adjust the fees as necessary. We also agreed to notify current CBSV users of any cost adjustment to allow them to cancel or continue using the service at the new SSN verification transaction fee.

Based on our most recent cost analysis, we will adjust the fiscal year 2014 fee to $1.10 per SSN verification transaction. New users must still pay the one-time $5,000 enrollment fee.

DATES: The changes described above are effective October 1, 2013.

FOR FURTHER INFORMATION CONTACT: Esset Tate, Office of Public Service and Operations Support, Social Security Administration, 6401 Security Boulevard, Baltimore, MD 21235-6401, [410-966-8502], for more information about the CBSV service, visit our Internet site, Social Security Online, at: http://www.socialsecurity.gov/cbsv.

Dated: September 5, 2013.
Esset Tate,
Project Manager, Office of Public Service and Operations Support.

[FR Doc. 2013-22195 Filed 9-11-13; 8:45 am]

BILLING CODE 4191-02-P